DEPARTMENT OF COMMERCE

National Institute of Standards and Technology

Agency Information Collection Activities; Submission to the Office of Management and Budget (OMB) for Review and Approval; Comment Request; Baldrige Performance Excellence Program Team Leader Consensus and Site Visit Information Collections

AGENCY: National Institute of Standards and Technology (NIST), Commerce.

ACTION: Notice of information collection; request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 21, 2022.

ADDRESSES: Interested persons are invited to submit written comments by mail to Nina Argent, Management Analyst, National Institute of Standards and Technology, by email to PRAcomments@doc.gov. Please reference OMB Control Number 0693-0079 in the subject line of your comments. Do not submit Confidential Business Information or otherwise sensitive or protected information.

FOR FURTHER INFORMATION CONTACT: Requests for additional information, or specific questions related to collection activities should be directed to Dawn Bailey, Baldrige Performance Excellence Program, 100 Bureau Drive, Stop 1020, Gaithersburg, MD 20899, 301-975-3074, dawn.bailey@nist.gov.

SUPPLEMENTARY INFORMATION:

I. Abstract

Public Law 100-107 (The Malcolm Baldrige National Quality Improvement Act of 1987), which established the Baldrige Performance Excellence Program and its Malcolm Baldrige National Quality Award (MBNQA), stipulates that organizational applicants for the award (see OMB Control #0693-0006) receive “an intensive evaluation by a competent board of examiners which shall review the evidence submitted by the organization and, through a site visit, verify the accuracy of the quality improvements claimed.”

Per the statute, “the Director of the National Bureau of Standards shall rely upon” these examiners, as they are in essence the external workforce of the Baldrige Performance Excellence Program. Baldrige Program staff members manage and improve the award and all of its processes, but the examiners actually do the objective review of MBNQA applicants.

The Team Leader Consensus and Site Visit Surveys will be one key way that Baldrige staff members can communicate with and seek feedback from the external workforce (Baldrige Examiners). To manage these voluntary examiners (some private citizens, some government and military personnel), the Baldrige Program needs the ability to ask them of their preferences for the sector in which they will do their application review (e.g., do they want to review a health care applicant, manufacturing applicant), their availability to conduct reviews, their ability to travel on a site visit and about all of their logistical needs (e.g., dietary restrictions, cannot review an organization from a certain state due to conflicts in that state), their ability to perform particular MBNQA roles such as technical editor or team leader), their conflicts with a particular organization, etc. The Baldrige Program also needs to survey them to obtain qualitative information on performance, as being a Baldrige Examiner is a very competitive selection.

The Baldrige Program could not perform the intensive evaluation called for in the law without surveying its own workforce about their unique needs in relation to the MBNQA process (and its subprocesses). In fact, these volunteer examiners expect to be asked their preferences, as well as given the ability to give their feedback to improve processes.

II. Method of Collection

Surveys are typically conducted via email or through a secure NIST file-sharing system if any MBNQA organization-specific information needs to be shared. Surveys can also be conducted over the phone if the number of examiners who need to be asked about a particular role or need is less than about 20. Often, a personal phone call is the best way to survey a subset of examiners, as maintaining positive relationships with examiners is very important to the program.

III. Data

OMB Control Number: 0693-0079.

Form Number(s): None.

Type of Review: Regular submission, Revision of a current information collection.

Affected Public: Individuals, including private citizens. All must be U.S. citizens (proof of citizenship is required prior to Baldrige Examiner training).

Number of Respondents: Examiner Performance Assessment—30 per year; Team Leader Performance Assessment—300 per year.

Average Hours per Response: Examiner Performance Assessment—20 minutes; Team Leader Performance Assessment—5 minutes.

Total Annual Burden Hours: Examiner Performance Assessment—10 hours; Team Leader Performance Assessment—25 hours.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-20480 Filed 9-21-22; 8:45 am]

BILLING CODE 3510-13-P